DEPARTMENT OF TRANSPORTATION

National Highway Traffic Safety Administration

49 CFR Part 533

[Docket No. 2002-11419]

RIN 2127-AI70

Request for Comments; National Academy of Science Study and Future Fuel Economy Improvements, Model Years 2005-2010

AGENCY: National Highway Traffic Safety Administration (NHTSA), Department of Transportation (DOT).

ACTION: Request for comments.

SUMMARY: The National Energy Policy directs the Secretary of Transportation to:

Review and provide recommendations on establishing Corporate Average Fuel Economy (CAFE) standards with due consideration of the National Academy of Sciences (NAS) study to be released in July 2001. Responsibly crafted CAFE standards should increase efficiency without negatively impacting the U.S. automotive industry. The determination of future fuel economy standards must therefore be addressed analytically and based on sound science.

Consider passenger safety, economic concerns and disparate impact on the U.S. versus foreign fleet of automobiles.

Look at other market-based approaches to increasing the national average fuel economy of new motor vehicles.

The agency is requesting comment on these policy recommendations, particularly the conclusions of the recently completed NAS report on fuel economy, as it looks beyond 2004. The purpose of this request is to acquire information to assist the agency in developing a proposal for those years beyond 2004. NHTSA currently plans to cover some or all of model years 2005 to 2010 in the proposal. The agency is seeking information that will help it assess the extent to which manufacturers can improve light truck fuel economy during those years, the benefits and costs to consumers of fuel economy improvements, the benefits to the nation of reducing fuel consumption, and the number of model years that should be covered by the proposal. NHTSA is also seeking comments on possible reforms to the Corporate Average Fuel Economy program, as it applies to both passenger cars and light trucks, to protect passenger safety, advance fuel-efficient technologies, and obtain benefits of market-based approaches.

DATES: Comments must be received on or before May 8, 2002.

ADDRESSES: You should mention the docket number of this document in your comments and submit your comments in writing to: Docket Management, Room PL-401, 400 Seventh Street, SW., Washington, DC, 20590. Comments may also be submitted to the docket electronically by logging onto the Dockets Management System website at http://dms.dot.gov. Click on “Help & Information” or “Help/Info” to obtain instructions for filing the document electronically.

You may call Docket Management at 202-366-9324. You may visit the Docket from 10 a.m. to 5 p.m., Monday through Friday.

FOR FURTHER INFORMATION CONTACT: For non-legal issues, call Ken Katz, Lead Engineer, Consumer Programs Division, Office of Planning and Consumer Programs, at (202) 366-0846, facsimile (202) 493-2290, electronic mail kkatz@nhtsa.dot.gov. For legal issues, call Otto Matheke, Office of the Chief Counsel, at (202) 366-5263.

SUPPLEMENTARY INFORMATION:

I. Introduction

In December 1975, during the aftermath of the energy crisis created by the oil embargo of 1973-74, Congress enacted the Energy Policy and Conservation Act (EPCA). The Act established an automotive fuel economy regulatory program by adding Title V, “Improving Automotive Efficiency,” to the Motor Vehicle Information and Cost Saving Act. Title V has been amended from time to time and codified without substantive change as Chapter 329 of Title 49 of the United States Code. Chapter 329 provides for the issuance of average fuel economy standards for passenger automobiles and automobiles that are not passenger automobiles (light trucks).

Section 32902(a) of Chapter 329 states that the Secretary of Transportation shall prescribe by regulation corporate average fuel economy (CAFE) standards for light trucks for each model year. That section also states that “[e]ach standard shall be the maximum feasible average fuel economy level that the Secretary decides the manufacturers can achieve in that model year.” (The Secretary has delegated the authority to implement the automotive fuel economy program to the Administrator of NHTSA. 49 CFR 1.50(f).) Section 32902(f) provides that, in determining the maximum feasible average fuel economy level, we shall consider four criteria: technological feasibility, economic practicability, the effect of other motor vehicle standards of the Government on fuel economy, and the need of the United States to conserve energy. Using this authority, we have set light truck CAFE standards through MY 2003. See 49 CFR 533.5(a). The standard for MY 2003 is 20.7 miles per gallon (mpg)(66 FR 17513; April 12, 2001).

We began the process of establishing light truck CAFE standards for model years after MY 1997 by publishing an Advance Notice of Proposed Rulemaking (ANPRM) in the Federal Register. 59 FR 16324; April 6, 1994. The ANPRM outlined the agency's intention to set standards for some, or all, of the model years from 1998 to 2006.

On November 15, 1995, the Department of Transportation and Related Agencies Appropriations Act for FY 1996 was enacted. Pub. L. 104-50. Section 330 of that Act provided:

None of the funds in this Act shall be available to prepare, propose, or promulgate any regulations * * * prescribing corporate average fuel economy standards for automobiles * * * in any model year that differs from standards promulgated for such automobiles prior to enactment of this section.

We then issued a notice of proposed rulemaking (NPRM) limited to MY 1998, proposing to set the light truck CAFE standard for that year at 20.7 mpg, the same standard as had been set for MY 1997. 61 FR 145 (January 3, 1996). This 20.7 mpg-standard was adopted by a final rule issued on March 29, 1996. 61 FR 14680 (April 3, 1996).

On September 30, 1996, the Department of Transportation and Related Agencies Appropriations Act for FY 1997 was enacted. Pub. L. 104-205. Section 323 of that Act provided:

None of the funds in this Act shall be available to prepare, propose, or promulgate any regulations * * * prescribing corporate average fuel economy standards for automobiles * * * in any model year that differs from standards promulgated for such automobiles prior to enactment of this section.

On March 31, 1997, we issued a final rule (62 FR 15859) establishing light truck fuel economy standards for MY 1999. This final rule was not preceded by an NPRM. The agency concluded that the restriction contained in Section 323 of the FY 1997 Appropriations Act prevented us from issuing any standards at a level other than the standard set for MY 1998. Because we had no other course of action, we determined that issuing an NPRM was unnecessary and contrary to the public interest.

Because the same limitation on the setting for CAFE standards was included in the appropriations acts for each of FYs 1998-2001, we followed that same procedure during those fiscal years and did not issue any NPRMs in the series of rulemakings we conducted to establish the light truck fuel economy standards for MYs 2000-2003. The agency concluded in those rulemakings, as it had when setting the MY 1999 standard, that the restrictions contained in the appropriations acts prevented us from issuing any standards other than the standard set for the prior model year. We also determined that issuing an NPRM was unnecessary and contrary to the public interest because we had no other course of action.

The Department of Transportation and Related Agencies Appropriations Act for FY 2001 was enacted on October 23, 2000. Pub. L. 106-346. This law provided appropriations for the Department of Transportation for FY 2001, and is the law under which we issued the light truck CAFE standard for MY 2003. While Section 320 of that Act contains a restriction on CAFE rulemaking identical to that contained in prior appropriation acts, the Conference Committee Report for that Act directed the National Academy of Sciences (NAS) to conduct a study to evaluate the effectiveness and impacts of CAFE standards (H.R. Conf. Rep. No. 106-940, at 117-118).

The NAS submitted its report to the Department of Transportation on July 30, 2001. The final report is being released in January 2002. The report points out that technologies exist that could significantly increase passenger car and light truck fuel economy within 15 years. However, the study found that “the fuel economy improvement that occurred during the 1970s and early 1980s involved considerable downweighting and downsizing” and that that downweighting and downsizing, “some of which was due to CAFE standards,” resulted in additional fatalities. (NAS, 4-14 and 6-1) Specifically, “to the extent that the size and weight of the fleet have been constrained by CAFE requirements * * * those requirements have caused more injuries and fatalities on the road than would otherwise have occurred.” (NAS, 2-29). However, the NAS found that if future weight reductions occur in only the heaviest of the light-duty vehicles, that can produce overall improvements in vehicle safety. (NAS, 4-14) NAS also found that to minimize financial impacts on manufacturers, their suppliers, their employees, and consumers, sufficient lead time, consistent with normal product life cycles, should be given. The report stated that there are advanced technologies that could be employed, without negatively affecting the automobile industry, if sufficient lead time were provided to the manufacturers. In NAS' view, the selection of fuel economy levels will require uncertain and difficult trade-offs among environmental benefits, vehicle safety, cost, energy independence, and consumer preferences. It also suggests that changing the CAFE regulatory program to one based on vehicle attributes, such as weight, and allowing “credit trading” could eliminate the current CAFE program's encouragement of downweighting or the production and sale of more small cars and also reduce costs. (NAS, 6-5) Recognizing the many trade-offs that must be considered in setting fuel economy standards, the committee took no position on what the appropriate CAFE standards should be for future years, leaving that question for policymakers to answer.

Secretary of Transportation Norman Y. Mineta asked House and Senate Appropriations Committees to lift the restriction on the agency spending funds on CAFE in the summer of 2001. The Department of Transportation and Related Agencies Appropriations Act for FY 2002 (Public Law 107-87) was enacted on December 18, 2001, and does not contain a provision restricting the Secretary's authority to prescribe fuel economy standards. Accordingly, the agency will fully consider the NAS report and other factors in its future CAFE rulemaking.

As the agency has been unable to spend any funds in violation of the terms of Section 320 of the FY 2001 Appropriations Act and the predecessor restrictions in earlier appropriations acts, it has not been able to lay the factual or analytical foundation necessary for rulemaking to establish new CAFE levels. To prepare for any fuel economy standard, the agency must collect information relating to prospective CAFE levels, analyze and weigh the information in light of the statutory criteria for determining the practicable maximum feasible average fuel economy level, and incorporate its information and analysis into a rulemaking action to set the standard, with opportunity for notice and comment.

To allow the agency to begin developing a proposal for light truck average fuel economy standards for model years after MY 2004, NHTSA is issuing this notice.

There are several important developments in the oil and vehicle markets that provide a useful context for today's notice.

With respect to the oil market, the United States imported 15 percent of its oil needs in 1955. The import share reached 35.8 percent in 1975, the year in which EPCA was passed, and rose to 46.5 percent in 1977. Although the share declined to below 30 percent in the early 1980s, lately, the United States has again become increasingly dependent on imported oil. Since 1991, import share has risen from 39.6 percent to 52.9 percent in 2000, which is an all time high level of oil imports.

Thus, the United States now imports a substantially higher percentage of its oil needs than it did during 1975. Moreover, the percentage of its oil supplied by OPEC is similar to that of 1975. Oil continues to account for nearly 40 percent of all energy used in the United States, and 95 percent of the energy consumed in the transportation sector. Petroleum demand is projected to grow at an average annual rate of 1.5 percent through 2020, led by growth in the transportation sector, which is expected to account for more than 70 percent of petroleum demand in 2020.

Domestic oil production has declined steadily since reaching a peak of 10.6 million barrels per day in 1985. By 1992, it dropped to 9.0 million barrels per day. Domestic production is expected to continue declining by roughly 0.2 percent from 2000 to 2020, with 2020 production estimated at 5.6 million barrels per day. While the United States is currently the world's second largest oil producer, it contains only about three percent of the world's known oil reserves. Persian Gulf countries contain 63 percent of known world reserves, and Eastern European countries contain 9 percent. The Department of Energy projects a continuing decline in domestic oil production to between 3.77 and 7.21 million barrels per day in 2010.

With respect to the vehicle market, in the early 1980's, during the energy crisis brought on by events in Iran, gasoline prices rose rapidly. That rise significantly increased consumer demand for more fuel-efficient vehicles. Thereafter, however, gasoline prices fell sharply and have remained at very low levels for a decade. The inflation-adjusted price of gasoline in the U.S. reached a post-World War II low in the 1993-1995 period and has risen slightly since. The fuel cost of vehicle travel in constant dollars is only half of what it was before the price shocks of the 1970s. Consumers place much greater emphasis on safety, cost, and high performance, and make little demand for improved light truck fuel economy. Vehicle performance levels (e.g., ability to accelerate) are now significantly higher than they were when EPCA was enacted. The NAS study found that “recent increases in vehicle weight, while resulting in some loss of fuel economy, have probably resulted in a reduction of motor vehicle crash fatalities.” (NAS, 2-29)

In the absence of strong consumer demand or other market pressure for increased efficiency, there is little motivation for manufacturers to make significant technological improvements to light truck fuel economy. Indeed, light truck fuel economy has been gradually declining since MY 1987 and is not expected to change in the next several years. The average light truck fuel economy was 20.7 mpg in MY 1985, and 20.5 mpg in MY 1995, ten model years later. Lately, light truck CAFE has hovered near 21.0 mpg, with the levels for the past three years ranging from 20.9 to 21.3 mpg. Fuel economy data reported by the Environmental Protection Agency shows that unadjusted light truck fuel economy levels have been below 21.0 mpg since 1993, with levels hovering near 20.5 mpg over the past 5 years or so.

A third reason why light truck CAFE standards assume increased importance now is the continued growth in market share of those vehicles. In 2001, for the first time, sales of light trucks surpassed those of passenger cars, accounting for 50.46 percent of all vehicles sold. In contrast, light trucks comprised 48.78 percent of the market in 2000. According to the Automotive News Data Center, there were 8,667,089 light trucks and 8,510,356 passenger cars sold in 2001, for a total of 17,177,445 vehicles sold. In addition, the sales of light trucks set a monthly record with 908,474 units sold in October 2001. That figure surpassed the previous record of 827,692, set in March 2000 (Bureau of Transportation Statistics).

The growth in the light truck market has been substantial and according to some estimates is achieving sales figures today that were not predicted until several years in the future. For example, the Automotive News Data Center and J.D. Power projected sales of 8.24 million light trucks in MY 2003 and 8.67 million by MY 2005. Thus, because 8.67 million light trucks were sold in 2001, the estimated market size for light trucks was accomplished four years earlier than predicted. Some of this increase in the light truck sales may be accounted for by the 0 percent financing offers made by most of the major manufacturers starting in October 2001, however none of these offers was limited to light trucks only. Further historical evidence for this rapid growth is the fact that light trucks comprised 40 percent of the total light vehicle production in MY 1995, which was more than double their share in MY 1980. The increase in light truck market share is vitally important, because as light trucks increase their market share, so does their impact on energy consumption and the importance of their potential contribution in addressing the Nation's need to conserve energy.

Additionally, the National Energy Policy, released in May 2001, included recommendations regarding the path that the Administration's energy policy should take and included specific recommendations regarding vehicle fuel economy and CAFE. The National Energy Policy was designed to promote dependable, affordable and environmentally sound energy for the future. The Policy envisions a comprehensive long-term strategy that uses leading edge technology to produce an integrated energy, environmental and economic policy. The report recommends that—

• The President direct the Secretary of Transportation to review and provide recommendations on establishing CAFE standards with due consideration of the National Academy of Sciences study released in July 2001. The President further directs that the CAFE standards be responsibly crafted and increase efficiency without negatively impacting the U.S. automotive industry; and that, the determination of future fuel economy standards be addressed analytically and based on sound science.

• The President direct the Secretary of Transportation to consider passenger safety, economic concerns, and disparate impact on the U.S. versus foreign fleet of automobiles.

• The President direct the Secretary of Transportation to look at other market-based approaches to increasing the national average fuel economy of new motor vehicles.

This notice requests comments to assist NHTSA in developing a proposal for light truck CAFE standards for model years after 2004, possibly through MY 2010. In addition, this notice requests comments on possible modifications and/or reforms to the CAFE program. Any significant reforms to the CAFE program may affect NHTSA's decision about the number of model years that should be covered by a proposed rule under the current CAFE program structure.

To aid the agency in obtaining useful comments, this notice discusses a variety of issues that are considered by NHTSA in evaluating fuel economy, and asks a number of questions and makes a number of requests for data. For easy reference, the questions and requests are numbered consecutively throughout the document.

In providing a comment on a particular matter or in responding to a particular question, interested persons are requested to provide any relevant factual information to support their conclusions or opinions, including but not limited to test data, statistical and cost data, and the source of such information.

In addition to the questions in the body of this notice, NHTSA is also including an appendix to this notice, which consists of a number of additional questions directed primarily toward light truck manufacturers. The appendix questions address their product plans through MY 2010 and the assumptions underlying those plans. The agency would appreciate answers that are as responsive as possible so that appropriate weight can be given to the many factors whose magnitude now can only be estimated. While the questions in the appendix are directed toward manufacturers, the agency welcomes comments from all interested persons in response to those questions.

II. The Statute

Chapter 329 of Title 49 of the U.S. Code requires the Secretary of Transportation to issue light truck fuel economy standards for each model year. The Code provides that the fuel economy standards must be set at the maximum feasible average fuel economy level. In determining the maximum feasible average fuel economy level, the Secretary is required under section 32902(f) of Title 49 to consider four factors: technological feasibility, economic practicability, the effect of other motor vehicle standards of the Government on fuel economy, and the need of the United States to conserve energy. The Secretary is permitted but not required to set separate standards for different classes of light trucks. (Responsibility for the automotive fuel economy program was delegated by the Secretary of Transportation to the Administrator of NHTSA (41 FR 25015, June 22, 1976).)

Based on definitions and judicial interpretations of similar terms in other statutes, the agency interprets “feasible” to refer to something that is capable of being done. Therefore, a standard set at the maximum feasible average fuel economy level must: (1) be capable of being done and (2) be at the highest level that is capable of being done, taking account of what manufacturers are able to do in light of technological feasibility, economic practicability, how other motor vehicle standards of the Government affect average fuel economy, and the need of the United States to conserve energy.

Executive Order 12866 requires that the findings of cost-benefit analysis be considered in the development of major rules. When considering the appropriate design and stringency of future standards, NHTSA will consider the incremental costs and benefits of alternative options.

The statute does not expressly state whether the concept of feasibility is to be determined on a manufacturer-by-manufacturer basis or on an industry-wide basis. As discussed in many fuel economy notices, it is clear from the legislative history that Congress did not intend that standards simply be set at the level of the least capable manufacturer. Instead, NHTSA must take industry-wide considerations into account in determining the maximum feasible average fuel economy level.

NHTSA has consistently set light truck standards at a level that can be achieved by manufacturers whose vehicles constitute a substantial share of the market. Because of the relatively high volume of production by those manufacturers, their capability bears a strong and close relationship to that of the industry as a whole.

III. Issues in Developing a Proposal for MY 2005-2010

Among the significant issues involved in developing a proposal for the MY 2005-2010 light truck CAFE standards is the extent of the ability of manufacturers to improve their light truck fuel economy during that period. In the last 18 months, Ford, General Motors and DaimlerChrysler have all issued statements regarding the fuel economy level their vehicles will be able to achieve over the next five or so years. In July 2000, Ford made a voluntary commitment to increase the fuel economy of its sport utility vehicle (SUV) fleet in the United States by 25 percent by the 2005 calendar year. General Motors stated that its SUV fleet would have an even higher average fuel economy than Ford's sport utility vehicle fleet, and that its overall average fuel economy for light trucks in 2005 would also be higher than Ford's. DaimlerChrysler stated that the fleet average fuel economy of all its vehicles—both passenger cars and light trucks—would match or exceed those of other full-line manufacturers. However, no timetable was set for achieving this goal, nor did DaimlerChrysler commit to achieving fuel economy goals in specific market segments such as SUVs. In order to help it analyze manufacturer capabilities for improving light truck fuel economy, NHTSA requests information or comments on the questions that follow.

NHTSA is interested in the technology that could be available for improving fuel economy. It is particularly interested in technological advancements and on manufacturers' future plans for the inclusion of technologies that have been developed under the Partnership for a New Generation of Vehicles (PNGV). The Department of Energy announced a new Freedom CAR initiative earlier this month that will aim at higher risk, higher reward technologies that will apply to vehicle models that are in high demand, including minivans, SUVs, and pickups. The National Research Council of the National Academy of Sciences also found that the structure and goals of the PNGV program were wrong. We are interested in adopting specific changes recommended by NAS to improve the program. Ford, General Motors and DaimlerChrysler have all introduced concept cars that achieve at least 70 mpg. It is anticipated that many of the technologies employed on these vehicles will be included in future product plans and that significant gains on fuel economy can be achieved by their application.

1. The NAS Study found that the CAFE program, as currently structured, has contributed to traffic fatalities and injuries. As an agency whose primary responsibility is safety and is therefore deeply concerned about the NAS finding, NHTSA requests comments on this NAS finding. Among our questions are: Is the safety impact understated or overstated? Would NAS's proposed changes to CAFE reduce this safety penalty? Could CAFE standards be modified so that manufacturers are encouraged to achieve improved fuel economy through application of technology instead of through downsizing and downweighting? NHTSA requests comments on the extent to which increases in light truck fuel efficiency are feasible during MYs 2005-2010 and on whether any of these increases would involve means—such as significant weight and size reduction—that could adversely affect safety. We note that the NAS found that if future weight reductions occur in only the heaviest of the light-duty vehicles, that can produce overall improvements in vehicle safety. If there would be adverse effects, how could they be mitigated?

2. What is the technological feasibility and economic practicability of various fuel efficiency enhancing technologies that fall under the general headings of engine, vehicle and transmission technologies? Please comment on each of the following technologies, listed under the general headings below:

Engine Technologies

Engine friction and other mechanical/hydrodynamic loss reduction; advanced low-friction lubricants; multi-valve, overhead camshaft valve trains; variable valve timing; variable valve lift and timing; intake valve throttling; cylinder deactivation; engine accessory improvement; engine downsizing and supercharging; camless valve actuation; variable compression ratio engines; electronic engine controls; direct fuel injection for spark ignition or diesel engines; lean burn-fast burn combustion; and two-stroke engines.

Transmission Technologies

Five-speed automatic transmission; six-speed automatic transmission; continuously variable transmission; advanced continuously variable transmission; automatic shift manual transmission; and automatic transmission with aggressive shift logic.

Vehicle Technologies

Aerodynamic drag reduction; and electronic controls; lowering rolling resistance; vehicle weight reduction; substitution of lighter-weight materials; 42 Volt electrical system; integrated starter/generator; hybrid drive trains; and fuel cells.

In answering this question, please address, for each of these technologies, as well as any other relevant/related technologies:

(a) The impact on fuel efficiency;

(b) Costs and benefits to the consumer;

(c) Manufacturer costs;

(d) Lead time;

(e) Degree of current use in passenger cars and light trucks;

(f) Impacts on safety, including injuries and fatalities; and

(g) Potential fleet penetration.

(h) Effects of environmental (especially vehicles emissions standards) and other regulations on their application/penetration.

In considering fleet penetration, please address whether some technologies might be appropriate for use on light truck models that would not need high load carrying or towing capability because of primarily personal passenger car type usage. For reference, NHTSA, at the direction of the Congress, commissioned a study entitled Light Truck Capabilities, Utility Requirements and Uses: Implications for Fuel Economy which was published in April 1996. (This study is available from the agency as report number DOT HS 808 378.) Included in that study is a brief summary of fuel economy technologies, their benefits, and their potential conflicts with light truck attributes.

3. What is the cost-effectiveness of each technology identified in Question 2, as well as any other relevant technologies, assuming alternative plausible gasoline prices forecast for MY 2005-2010, and assuming alternative payback periods ranging from 3 years to 10 years?

4. Taking into account the response to Question 2, and the statements recently made by Ford and General Motors about the fuel economy of their vehicles by 2005, and DaimlerChrysler's response, indicate the ability of each manufacturer to improve its light truck CAFE for each model year during the MY 2005-2010 timeframe. Specify the fuel economy improvements on a vehicle-by-vehicle basis that will result in the achievement of the manufacturer's fuel economy pledges. For each vehicle, please list the specific technologies that will be employed and the increase in fuel economy attributed to such technology. By what model year would maximum penetration of all current fuel economy enhancing technologies be feasible? Why wouldn't such maximum penetration be feasible earlier than that model year?

5. What analyses of manufacturer light truck fuel economy capabilities for MY 2005-2010 are available? What are the strengths and weaknesses of each such analysis?

6. What data are available on the usage characteristics of light trucks, i.e., how many passengers and/or how much cargo the different types of light trucks typically carry? What survey and other data are available on the importance that consumers place on the fuel economy of light trucks relative to other vehicle attributes?

7. By their nature, fuel economy standards lower the marginal cost of driving. What effect does this cost difference have on vehicle miles traveled?

8. To what extent are other Federal standards likely to affect manufacturers' CAFE capabilities in MYs 2005-2010? Answers to this question should include not only the effects of such standards when first implemented, but also the prospect for reducing those effects subsequently.

In the final rule establishing light truck CAFE standards for MYs 1996-1997 (59 FR 16312 (April 6, 1994)), NHTSA stated that it believed that CAFE standards for the last decade have not had any measurable effect on light truck weight or size; and, hence, safety. In support of that belief, the agency noted that the levels of the light truck CAFE standards have not varied significantly for more than a decade. The light truck CAFE standards for MY 1987-89 and MY 1994 were set at 20.5 mpg, and, as far back as MY 1984, the standard was only slightly lower at 20.0 mpg. NHTSA also noted that, in setting the light truck CAFE standards over the last decade, the agency has not included in its analyses of manufacturer capabilities any product plan actions that would significantly affect the weight, size or cost of the vehicles the manufacturers planned to offer. Further, the average equivalent test weight of light trucks increased from 3,805 pounds in MY 1984 to 4,360 pounds in MY 1996.

9. In setting CAFE standards, the agency takes into consideration that there are often technological risks associated with actually achieving the full potential fuel economy improvement from a particular type of technology. How should the agency take technological risks into account in setting these light truck CAFE standards? What technological risks are associated with gaining the full potential fuel economy improvements from any of the available types of fuel economy enhancing technologies? What are the prospects for overcoming those risks or offsetting their effects on CAFE capability?

The National Academy of Sciences Study and CAFE Reform

On July 30, 2001, the National Academy of Sciences released its report entitled, “Effectiveness and Impact of Corporate Average Fuel Economy (CAFE) Standards.” This report included fifteen findings and seven recommendations. Several of the recommendations address possible modifications to the CAFE program. Possible modifications to the CAFE program (as it applies to passenger cars as well as light trucks) could include changes to the current structure (i.e., changing the vehicle classification definitions) or could involve more significant reforms (i.e., weight-based standards, credit trading).

A possible modification to CAFE, which has received considerable attention, is an approach with fuel economy targets that are dependent on vehicle attributes, such as vehicle weight, size or load. The NAS recommended this approach, referred to as an attribute-based system, because it would “create incentives to reduce the variance in vehicle weights between large and small vehicles, thus providing for overall vehicle safety. It has the potential to increase fuel economy with fewer negative effects on safety and consumer choice.” Under the current CAFE program, each manufacturer must meet a production-weighted harmonic average for each fleet of vehicles sold. In an attribute-based system, each manufacturer might have to meet an overall production-weighted fuel economy average, and/or each manufacturer might have to meet a different fuel economy average for the vehicles that were produced in each specific size, weight or load class.

10. Please comment on the idea of an attribute-based system. Provide feedback on which attribute(s) such a system should be based on and the specific classes of vehicles that might fall under each class. In addition, please suggest the fuel economy level associated with each specific class of that attribute-based system (e.g., vehicles weighing from 2,000 lbs. GVWR to 2,500 GVWR would have to meet an average of xx.x MPG).

Another modification that has been suggested is fuel economy credits that could be traded among vehicle manufacturers. The NAS found that “changing the current CAFE system to one featuring tradable fuel economy credits and a ‘cap’ on the price of these credits appears to be particularly attractive. It would provide incentives for all manufacturers, including those that exceed the fuel economy targets, to continually increase fuel economy, while allowing manufacturers flexibility to meet consumer preferences.” Currently, each manufacturer can only earn credits if it exceeds the standards in any particular year. A manufacturer can carry the credits earned for a particular class of vehicles forward or backward to offset CAFE shortfalls within that same class of vehicles. However, it can neither apply the credits to another of its classes of vehicles nor trade them with other manufacturers. (Thus, if the agency used its authority to set standards for different classes of light trucks, the statute would prevent trading credits between those classes.) If the CAFE program could be modified to allow manufacturers to apply fuel economy credits throughout their own fleets and to trade them with other manufacturers. Credits could be obtained directly from other manufacturers or indirectly from the U.S. Government. This modification has the potential to increase the economic efficiency and flexibility of the CAFE system.

11. Please comment on the possibility of tradable fuel economy credits and the potential cost and benefits to each manufacturer.

The elimination of the two-fleet rule, providing for a domestic passenger car fleet and an import passenger car fleet, has been suggested as a possible modification to CAFE. The distinction is based on the proportion of the car's value that is defined as being domestic; an import is defined as a car with less than 75 percent domestic content. If a manufacturer has both a domestic passenger car fleet and an import passenger car fleet, each fleet must separately meet the passenger car standard. If this rule were eliminated, such a manufacturer could place all its passenger cars in a single fleet.

12. Please comment on the effect that elimination of the two-fleet rule would have on manufacturers, consumers, employment, the U.S. marketplace, and on the automotive industry in general.

A possible modification that has also received considerable attention in Congress and the media is the re-classification of vehicles under the CAFE system. When CAFE was originally conceived, it provided for setting different standards for passenger vehicles and work/cargo vehicles, classified as light trucks. This has allowed light trucks to have higher fuel consumption because extra power, different gearing, and other attributes that were considered necessary for their utilitarian, load-carrying attributes. At that point, in 1975, these vehicles comprised about 20 percent of the market. Light trucks now comprise approximately 50 percent of new vehicles sold. Most important, the functional distinction between cars and trucks (cars for personal use and trucks for work cargo use) has broken down, initially with the introduction of minivans, and more recently with sport utility and cross-over vehicles that are used almost exclusively for passenger transport. NHTSA has the statutory authority to change how these vehicles are classified and may do so in the future to reflect the usage of many types of light trucks as passenger vehicles. However, any modification would accommodate the inability of true work/cargo vehicles to achieve as high fuel economy, due to their utilitarian nature.

13. Please provide suggestions for modifications of the vehicle classification. These suggestions should be as detailed as possible and should state the logic and rationale for the modification, as well as suggested definitions. An analysis of the pros and cons of each suggested modification should also be provided.

Another possible modification to the CAFE program would be raising the maximum gross vehicle weight rating of vehicles covered by the CAFE standards from 8,500 lbs. to 10,000 lbs. Manufacturers currently are selling several models of large sport utility vehicles over the 8,500 lbs. weight limit that are being utilized as passenger vehicles. Because the gross vehicle weight rating is based on manufacturer supplied information on the load carrying capacity of their vehicles, the agency is concerned that some vehicles, which are primarily used as passenger vehicles, are not included in manufacturers' light truck fleets. The agency has the statutory authority to make this change.

14. Please provide comments on the possibility of raising the maximum gross vehicle weight rating and on the effects that this would have on manufacturers, consumers, U.S. automotive industry employment and the automotive industry in general.

15. NHTSA requests comments on the above possible modifications to the CAFE program and other modifications that have been discussed, such as those mentioned in the National Academy of Sciences study. In addressing these possible modifications, please identify their positives and negatives; their estimated costs and benefits; their effect on manufacturers, suppliers, employees, and consumers; and the policy implications of each. The agency requests that each manufacturer specify how much lead time would be needed to respond to each possible modification and provide that information in terms of product planning cycles. To assist NHTSA, please be as specific as possible and provide any information that you believe will be helpful.

The National Academy of Sciences report also included an assessment of the technological potential for improving the fuel efficiency of 10 different classes of vehicles (subcompact cars, compact cars, SUVs, pickups, minivans, etc.), and included a “break-even” analysis for each of these classes. The report identified packages of existing and emerging technologies that could be introduced over the next ten years and that would result in fuel economy improvement up to the point at which further increases in fuel economy would not be reimbursed by fuel savings. It placed these technologies into three product development paths for each of ten vehicle classes. The paths were chosen to represent potential vehicle development steps that would offer increasing levels of fuel economy gain at incrementally increasing costs. In doing the analysis, the committee kept the size and performance characteristics of the vehicles' constant, while increasing vehicle weight five percent to account for future safety requirements.

Two break-even analyses were done for each path. One covered a 14-year period that reflects the entire life of the vehicle, while the other covered a 3-year period that reflects the first purchaser's ownership period. The committee theorized that all consumers do not take the same things into consideration when purchasing a vehicle, and realized that some consumers will be trading in their vehicles on a constant cycle. The 3-year period also represents the average lease term, and thus can serve as a starting point for analyzing the emphasis that vehicle leasers place on fuel economy and advanced technology.

To assist NHTSA in its rulemaking, we ask you to comment on the following:

16. In examining the three paths that were chosen, please comment on whether they represent likely scenarios for technology bundling. If not, please comment on which technologies are likely to be bundled together and please identify the specific vehicle types and vehicles/models that might include them. In addition, please comment on the technologies already included on the vehicle types/models, the projected vehicle weight and the percent of total model sales anticipated for each model (i.e., CVT—45%, 5-Speed Automatic—40%, 5-Speed Manual—5%). Finally, please comment on the assumptions the NAS made in evaluating the three paths. Are there more plausible alternative assumptions?

17. Should hybrid and fuel cell vehicles have been included in the paths? If so, which ones and which specific vehicle types? What technologies would be included with these types of vehicles?

18. Do you believe that the NAS study over or under estimated the fuel economy benefits from specific technologies? If so, which ones and why? Please provide NHTSA with your data that suggest a different benefit resulting from the application of these technologies.

19. Do you agree with the figures derived in the NAS break-even analysis? If not, why? Please address specific areas of differences, explain your reason(s) why, and provide supporting data for your reasons and arguments.

20. For the forthcoming rulemaking and future CAFE rulemakings, benefit analysis will play an important role in NHTSA decisionmaking. NHTSA therefore seeks comments on the following specific benefit issues: Can you provide, in addition to the material in the NAS report, any methods and data that would be helpful in identifying, quantifying, and expressing in dollar units the potential benefits of alternative CAFE standards (including energy security, environmental, and other considerations)? Are there any ancillary studies that NHTSA or other federal agencies should commission to provide a stronger technical foundation for making benefit estimates in future CAFE rulemakings?

IV. Impact Analyses

A. Economic Impacts

This notice was reviewed under E.O. 12866. The agency has considered the potential economic implications of this rulemaking and determined that it is significant within the meaning of the Department's regulatory policies and regulatory procedures. A preliminary regulatory evaluation will be prepared and placed in the public docket before any notice of proposed rulemaking is published.

B. Environmental Impacts

We have not conducted an evaluation of the impacts of this request for comments under the National Environmental Policy Act. There is no requirement for such an evaluation where, as here, the agency is requesting comments on a possible future rulemaking.

C. Impacts on Small Entities

Pursuant to the Regulatory Flexibility Act, the agency has considered the impact this request for comments would have on small entities. I certify that this action would not have a significant economic impact on a substantial number of small entities. Therefore, a regulatory flexibility analysis is not required for this action. Few, if any, light truck manufacturers subject to a possible proposed rule subsequent to this notice would be classified as a “small business” under the Regulatory Flexibility Act.

The Regulatory Flexibility Act of 1980 (Public Law 96-354) requires each agency to evaluate the potential effects of a rule on small businesses. Establishment of a fuel economy standard for light trucks affects motor vehicle manufacturers, few of which are small entities. The Small Business Administration (SBA) has set size standards for determining if a business within a specific industrial classification is a small business. The Standard Industrial Classification code used by the SBA for Motor Vehicles and Passenger Car Bodies (3711) defines a small manufacturer as one having 1,000 employees or fewer.

Very few single stage manufacturers of motor vehicles within the United States have 1,000 or fewer employees. Those that do are not likely to have sufficient resources to design, develop, produce and market a light truck. For this reason, we certify that this request for comments and any subsequent proposal would not have a significant economic impact on a substantial number of small entities.

D. Federalism

E.O. 13132 requires NHTSA to develop an accountable process to ensure “meaningful and timely input by State and local officials in the development of regulatory policies that have federalism implications.” E.O. 13132 defines the term “Policies that have federalism implications” to include regulations that have “substantial direct effects on the States, on the relationship between the national government and the States, or on the distribution of power and responsibilities among the various levels of government.” Under E.O. 13132, NHTSA may not issue a regulation that has federalism implication, that imposes substantial direct compliance costs, and that is not required by statute, unless the Federal government provides the funds necessary to pay the direct compliance costs incurred by State and local governments, or NHTSA consults with State and local officials early in the process of developing the proposed regulation.

This request for comments and any subsequent proposal would not have substantial direct effects on the States, on the relationship between the national government and the States, or on the distribution of power and responsibilities among the various levels of government as specified in E.O. 13132. Thus, the requirements of section 6 of the Executive Order do not apply to this notice.

E. The Unfunded Mandates Reform Act

The Unfunded Mandates Reform Act of 1995 (Public Law 104-4) requires agencies to prepare a written assessment of the costs, benefits and other effects of proposed or final rules that include a Federal mandate likely to result in the expenditure by State, local or tribal governments, in the aggregate, or by the private sector, of more than $100 million annually.

F. Paperwork Reduction Act

There are no information collection requirements in this proposal.

G. Regulation Identifier Number (RIN)

The Department of Transportation assigns a regulation identifier number (RIN) to each regulatory action listed in the Unified Agenda of Federal Regulations. The Regulatory Information Service Center publishes the Unified Agenda in April and October of each year. You may use the RIN contained in the heading at the beginning of this document to find this action in the Unified Agenda.

H. Plain Language

Executive Order 12866 require each agency to write all rules in plain language. Application of the principles of plain language includes consideration of the following questions:

—Have we organized the material to suit the public's needs?

—Are the requirements in the notice clearly stated?

—Does the notice contain technical language or jargon that is not clear?

—Would a different format (grouping and order of sections, use of headings, paragraphing) make the notice easier to understand?

—Would more (but shorter) sections be better?

—Could we improve clarity by adding tables, lists, or diagrams?

—What else could we do to make the notice easier to understand?

If you have any responses to these questions, please forward them to Otto Matheke, Office of Chief Counsel, National Highway Traffic Safety Administration, 400 Seventh Street, SW., Washington, DC 20590.

I. Executive Order 13045

Executive Order 13045 (62 FR 19885, April 23, 1997) applies to any rule that: (1) is determined to be economically significant as defined under E.O. 12866, and (2) concerns an environmental, health or safety risk that NHTSA has reason to believe may have a disproportionate effect on children. If the regulatory action meets both criteria, we must evaluate the environmental health or safety effects of the planned rule on children, and explain why the planned regulation is preferable to other potentially effective and reasonably feasible alternatives considered by us.

This request for comments and any subsequent proposal does not have a disproportionate effect on children. The primary effect of this request for comments and any subsequent proposal is to conserve energy resources by setting fuel economy standards for light trucks.

J. National Technology Transfer and Advancement Act

Section 12(d) of the National Technology Transfer and Advancement Act (NTTAA) requires NHTSA to evaluate and use existing voluntary consensus standards ¹ in its regulatory activities unless doing so would be inconsistent with applicable law (e.g., the statutory provisions regarding NHTSA's vehicle safety authority) or otherwise impractical. In meeting that requirement, we are required to consult with voluntary, private sector, consensus standards bodies. Examples of organizations generally regarded as voluntary consensus standards bodies include the American Society for Testing and Materials (ASTM), the Society of Automotive Engineers (SAE), and the American National Standards Institute (ANSI). If NHTSA does not use available and potentially applicable voluntary consensus standards, we are required by the Act to provide Congress, through OMB, an explanation of the reasons for not using such standards.

¹ Voluntary consensus standards are technical standards developed or adopted by voluntary consensus standards bodies. Technical standards are defined by the NTTAA as “performance-based or design-specific technical specifications and related management systems practices.” They pertain to “products and processes, such as size, strength, or technical performance of a product, process or material.”

In issuing this notice, the agency is simply seeking information to help it establishing a future goal for manufacturers to meet. Therefore, setting this future standard does not involve the use of any voluntary standards.

V. Comments

Submission of Comments

How Can I Influence NHTSA's Thinking on This Notice?

In developing this notice, we tried to address the concerns of all our stakeholders. Your comments will help us determine what standards should be set for light truck fuel economy. We invite you to provide different views on questions we ask, new approaches and technologies we did not ask about, new data, how this notice may affect you, or other relevant information. We welcome your views on all aspects of this notice, but request comments on specific issues throughout this notice. We grouped these specific requests near the end of the sections in which we discuss the relevant issues. Your comments will be most effective if you follow the suggestions below:

• Explain your views and reasoning as clearly as possible.

• Provide empirical evidence, wherever possible, to support your views.

• If you estimate potential costs, explain how you arrived at the estimate.

• Provide specific examples to illustrate your concerns.

• Offer specific alternatives.

• Refer your comments to specific sections of the notice, such as the units or page numbers of the preamble, or the regulatory sections.

• Be sure to include the name, date, and docket number of the proceeding with your comments.

How Do I Prepare and Submit Comments?

Your comments must be written and in English. To ensure that your comments are correctly filed in the Docket, please include the docket number of this document in your comments.

Your comments must not be more than 15 pages long. (49 CFR 553.21). We established this limit to encourage you to write your primary comments in a concise fashion. However, you may attach necessary additional documents to your comments. There is no limit on the length of the attachments.

Please submit two copies of your comments, including the attachments, to Docket Management at the address given above under ADDRESSES.

Comments may also be submitted to the docket electronically by logging onto the Dockets Management System website at http://dms.dot.gov. Click on “Help & Information” or “Help/Info” to obtain instructions for filing the document electronically.

How Can I Be Sure That My Comments Were Received?

If you wish Docket Management to notify you upon its receipt of your comments, enclose a self-addressed, stamped postcard in the envelope containing your comments. Upon receiving your comments, Docket Management will return the postcard by mail.

How Do I Submit Confidential Business Information?

If you wish to submit any information under a claim of confidentiality, you should submit three copies of your complete submission, including the information you claim to be confidential business information, to the Chief Counsel, NHTSA, at the address given above under FOR FURTHER INFORMATION CONTACT. In addition, you should submit two copies, from which you have deleted the claimed confidential business information, to Docket Management at the address given above under ADDRESSES. When you send a comment containing information claimed to be confidential business information, you should include a cover letter setting forth the information specified in our confidential business information regulation. (49 CFR part 512.)

Will the Agency Consider Late Comments?

We will consider all comments that Docket Management receives before the close of business on the comment closing date indicated above under DATES. To the extent possible, we will also consider comments that Docket Management receives after that date. If Docket Management receives a comment too late for us to consider it in developing a proposed rule (assuming that one is issued), we will consider that comment as an informal suggestion for future rulemaking action.

How Can I Read the Comments Submitted by Other People?

You may read the comments received by Docket Management at the address given above under ADDRESSES. The hours of the Docket are indicated above in the same location.

You may also see the comments on the Internet. To read the comments on the Internet, take the following steps:

(1) Go to the Docket Management System (DMS) Web page of the Department of Transportation (http://dms.dot.gov/).

(2) On that page, click on “search.”

(3) On the next page (http://dms.dot.gov/search/), type in the four-digit docket number shown at the beginning of this document. Example: If the docket number were “NHTSA-1998-1234,” you would type “1234.” After typing the docket number, click on Asearch.”

(4) On the next page, which contains docket summary information for the docket you selected, click on the desired comments. You may download the comments. However, since the comments are imaged documents, instead of word processing documents, the downloaded comments are not word searchable.

Please note that even after the comment closing date, we will continue to file relevant information in the Docket as it becomes available. Further, some people may submit late comments. Accordingly, we recommend that you periodically check the Docket for new material.

Authority: 15 U.S.C. 2002; delegation of authority at 49 CFR 1.50.

Issued on: February 1, 2002.
Stephen R. Kratzke,
Associate Administrator for Safety Performance Standards.

APPENDIX

I. Definitions

As used in this appendix—

1. “Automobile,” “fuel economy,” “manufacturer,” and “model year,” have the meaning given them in Section 501 of the Motor Vehicle Information and Cost Savings Act, 15 U.S.C. 2001.

2. “Cargo-carrying volume,” “gross vehicle weight rating” (GVWR), and “passenger-carrying volume” are used as defined in 49 CFR 523.2.

3. “Basic engine” has the meaning given in 40 CFR 600.002-85(a)(21). When identifying a basic engine, respondent should provide the following information:

(i) Engine displacement (in cubic inches).

(ii) Number of cylinders or rotors.

(iii) Number of valves per cylinder.

(iv) Cylinder configuration (V, in-line, etc.).

(v) Number of carburetor barrels, if applicable.

(vi) Other engine characteristics, abbreviated as follows:

DD—Direct Injection Diesel

ID—Indirect Injection Diesel

TB—Throttle Body Fuel Injection S.I. (Spark Ignition)

MP—Multipoint Fuel Injection S.I.

TD—Turbocharged Diesel

TS—Turbocharged S.I.

FFS—Feedback Fuel System

2C—Two-stroke engines

VVT—Variable valve timing

VVLT—Variable valve lift and timing

SOHC—Single overhead camshaft

DOHC—Dual overhead camshafts

CYDA—Cylinder deactivation

IVT—Intake valve throttling

CVA—Camless valve actuation

VCR—Variable compression ratio

LBFB—lean burn-fast burn combustion

4. “Domestically manufactured” is used as defined in Section 503(b)(2)(E) of the Act.

5. “Light truck” means an automobile of the type described in 49 CFR part 523.5.

6. A “model” of light truck is a line, such as the Chevrolet C1500 or Astro, Ford F150 or E150, Jeep Wrangler, etc., which exists within a manufacturer's fleet.

7. “Model Type” is used as defined in 40 CFR 600.002-85(a)(19).

8. “Percent fuel economy improvements” means that percentage which corresponds to the amount by which respondent could improve the fuel economy of vehicles in a given model or class through the application of a specified technology, averaged over all vehicles of that model or in that class which feasibly could use the technology. Projections of percent fuel economy improvement should be based on the assumption of maximum efforts by respondent to achieve the highest possible fuel economy increase through the application of the technology. The baseline for determination of percent fuel economy improvement is the level of technology and vehicle performance with respect to acceleration and gradeability for respondent's 2001 model year light trucks in the equivalent class.

9. “Percent production implementation rate” means that percentage which corresponds to the maximum number of light trucks of a specified class, which could feasibly employ a given type of technology if respondent made maximum efforts to apply the technology by a specified model year.

10. “Production percentage” means the percent of respondent's light trucks of a specified model projected to be manufactured in a specified model year.

11. “Project” or “projection” refers to the best estimates made by respondent, whether or not based on less than certain information.

12. “Redesign” means any change, or combination of changes, to a vehicle that would change its weight by 50 pounds or more or change its frontal area or aerodynamic drag coefficient by 2 percent or more.

13. “Relating to” means constituting, defining, containing, explaining, embodying, reflecting, identifying, stating, referring to, dealing with, or in any way pertaining to.

14. “Respondent” means each manufacturer (including all its divisions) providing answers to the questions set forth in this appendix, and its officers, employees, agents or servants.

15. “Test Weight” is used as defined in 40 CFR 86.082-2.

16. “Transmission class” is used as defined in 40 CFR 600.002-05(22)(a). When identifying a transmission class, respondent also must indicate whether the type of transmission, and whether it is equipped with a lockup torque converter (LUTC), a split torque converter (STC), and/or a wide gear ratio range (WR) and specify the number of forward gears or whether the transmissions a continuously variable design (CVT). If the transmission is of a hybrid type, that should also be indicated.

17. “Truckline” means the name assigned by the Environmental Protection Agency to a different group of vehicles within a make or car division in accordance with that agency's 1994 model year pickup, van (cargo vans and passenger vans are considered separate truck lines), and special purpose vehicle criteria.

18. “Utility vehicle” means a form of light truck, either two-wheel drive (4x2) or four-wheel drive (4x4), and is exemplified by a Jeep Wrangler or Cherokee, a Chevrolet Blazer, Ford Explorer, or a Toyota Land Cruiser.

19. The term “van” is used as defined in 40 CFR 86.082-2.

20. “Variants of existing engines” means versions of an existing basic engine that differ from that engine in terms of displacement, method of aspiration, induction system or that weigh at least 25 pounds more or less than that engine.

II. Assumptions

All assumptions concerning emission standards, damageability regulations, safety standards, etc., should be listed and described in detail by the respondent.

III. Specifications

1. Identify all light truck models currently offered for sale in MY 2001 whose production you project discontinuing before MY 2005 and identify the last model year in which each will be offered.

2. Identify all basic engines offered by respondent in MY 2001 light trucks which respondent projects it will cease to offer for sale in light trucks before MY 2005, and identify the last model year in which each will be offered.

3. Does the respondent currently project offering for sale for the time period of MY 2005-2010 any new or redesigned light trucks, including vehicles smaller than those now produced? If so, provide the following information for each model (e.g., Chevrolet C1500, Ford F150). Model types that are essentially identical except for their nameplates (e.g., Dodge Caravan/Plymouth Voyager) may be combined into one item. See Table A for a sample format; 4x2 and 4x4 light trucks are different models.

a. Body types to be offered for sale (e.g., regular cab, super cab).

b. Description of basic engines, or power sources (i.e., fuel cell) including optional horsepower and torque ratings, if any; displacement; number and configuration of cylinders; type of fuel injection system; fuel type; number of valves per cylinder, and whether it is 2-cycle or 4-cycle or uses variable valve timing.

c. Transmission type (manual, automatic, number of forward speeds, hybrid, overdrive, etc., as applicable), including gear ratios and final drive, alternative ratios offered, driveline configuration, and special features such as torque converter lockup clutches, electronic controls or CVT design.

d. (i) The range of GVW ratings to be offered for each body type.

(ii) The range of test weights for each body type.

e. All wheelbases.

f. Estimated power absorption unit (PAU) setting, in hp.

g. The range of projected EPA composite fuel economies for each body type in the initial model year of production.

h. Projected introduction date (model year).

i. Projected sales for each model year from the projected year of introduction through MY 2010, expressed both as an absolute number of units sold and as percentage of all light trucks sold by respondent.

j. Projections of:

(i) Existing models replaced by new models.

(ii) Reduced sales of respondent's existing models as a result of the sale of each of the new models.

(iii) New sales not captured from any of the respondent's existing models.

4. Does respondent project introducing any variants of existing basic engines or any new basic engines, other than those mentioned in your response to Question 3, in its light truck fleets in MYs 2005-2010? If so, for each basic engine or variant indicate:

a. The projected year of introduction,

b. Type (e.g., spark ignition, direct injection diesel, 2-cycle, alternative fuel use),

c. Displacement,

d. Type of induction system (e.g., fuel injection with turbocharger, naturally aspirated),

e. Cylinder configuration (e.g., V-8, V-6, I-4),

f. Number of valves per cylinder (e.g., 2, 3, 4, 6),

g. Horsepower and torque ratings,

h. Models in which engines are to be used, giving the introduction model year for each model if different from “a,” above. (See Table B for a sample format.)

5. Relative to MY 2001 levels, for MYs 2005-2010, please provide information, by truckline and as an average effect on a manufacturer's entire light truck fleet, on the weight and/or fuel economy impacts of the following standards or equipment:

a. Federal Motor Vehicle Safety Standard (FMVSS 208) Automatic Restraints

b. FMVSS 201 Occupant Protection in Interior Impact

c. Voluntary installation of safety equipment (e.g., antilock brakes)

e. Environmental Protection Agency regulations

f. California Air Resources Board requirements

g. Other applicable motor vehicle regulations affecting fuel economy.

6. For each of the model years 2005-2010, and for each light truck model projected to be manufactured by respondent (if answers differ for the various models), provide the requested information for each of items “6a” through “6o” listed below:

(i) description of the nature of the technological improvement;

(ii) the percent fuel economy improvement averaged over the model;

(iii) the basis for your answer to 6(ii), (e.g., data from dynamometer tests conducted by respondent, engineering analysis, computer simulation, reports of test by others);

(iv) the percent production implementation rate and the reasons limiting the implementation rate;

(v) a description of the 2001 baseline technologies and the 2001 implementation rate; and

(vi) the reasons for differing answers you provide to items (ii) and (iv) for different models in each model year. Include as a part of your answer to 6(ii) and 6(iv) a tabular presentation, a sample portion of which is shown in Table C.

a. Improved automatic transmissions. Projections of percent fuel economy improvements should include benefits of lock-up or bypassed torque converters, electronic control of shift points and torque converter lock-up, and other measures which should be described.

b. Improved manual transmissions. Projections of percent of fuel economy improvement should include the benefits of increasing mechanical efficiency, using improved transmission lubricants, and other measures (specify).

c. Overdrive transmissions. If not covered in “a” or “b” above, project the percentage of fuel economy improvement attributable to overdrive transmissions (integral or auxiliary gear boxes), two-speed axles, or other similar devices intended to increase the range of available gear ratios. Describe the devices to be used and the application by model, engine, axle ratio, etc.

d. Use of engine crankcase lubricants of lower viscosity or with additives to improve friction characteristics or accelerate engine break-in, or otherwise improved lubricants to lower engine friction horsepower. When describing the 2001 baseline, specify the viscosity of and any fuel economy-improving additives used in the factory-fill lubricants.

e. Reduction of engine parasitic losses through improvement of engine-driven accessories or accessory drives. Typical engine-driven accessories include water pump, cooling fan, alternator, power steering pump, air conditioning compressor, and vacuum pump.

f. Reduction of tire rolling losses, through changes in inflation pressure, use of materials or constructions with less hysteresis, geometry changes (e.g., increased aspect ratio), reduction in sidewall and tread deflection, and other methods. When describing the 2001 baseline, include a description of the tire types used and the percent usage rate of each type.

g. Reduction in other driveline losses, including losses in the non-powered wheels, the differential assembly, wheel bearings, universal joints, brake drag losses, use of improves lubricants in the differential and wheel bearing, and optimizing suspension geometry (e.g., to minimize tire scrubbing loss).

h. Reduction of aerodynamic drag.

i. Turbocharging or supercharging.

j. Improvements in the efficiency of 4-cycle spark ignition engines including (1) increased compression ratio; (2) leaner air-to-fuel ratio; (3) revised combustion chamber configuration; (4) fuel injection; (5) electronic fuel metering; (6) interactive electronic control of engine operating parameters (spark advance, exhaust gas recirculation, air-to-fuel ratio); (8) variable valve timing or valve lift; (9) multiple valves per cylinder; (10) friction reduction by means such as low tension piston rings and roller cam followers; (11) higher temperature operation; and (12) other methods (specify).

k. Naturally aspirated diesel engines, with direct or indirect fuel injection.

l. Turbocharged or supercharged diesel engines with direct or indirect fuel injection.

m. Stratified-charge reciprocating or rotary engines, with direct or indirect fuel injection.

n. Two cycle spark ignition engines.

o. Use of hybrid drivetrains

p. Use of fuel cells; provide a thorough description of the fuel cell technology employed, including fuel type and power output.

q. Other technologies for improving fuel economy or efficiency.

7. For each model of respondent's light truck fleet projected to be manufactured in each of MYs 2005-2010, describe the methods used to achieve reductions in average test weight. For each specified model year and model, describe the extent to which each of the following methods for reducing vehicle weight will be used. Separate listings are to be used for 4x2 light trucks and 4x4 light trucks.

a. Substitution of materials.

b. “Downsizing” of existing vehicle design to reduce weight while maintaining interior roominess and comfort for passengers, and utility, i.e., the same or approximately the same, payload and cargo volume, using the same basic body configuration and driveline layout as current counterparts.

c. Use of new vehicle body configuration concepts, which provides reduced weight for approximately the same payload and cargo volume.

8. For each model year 2005-2010, list all projected light truck model types and provide the information specified in “a” through “k” below for each model type.

The information should be in tabular form, with a separate table for each model year. Each grouping is to be subdivided into separate listings for models with 4x2 and 4x4 drive systems. Engines having the same displacement but belonging to different engine families are to be grouped separately.

The vehicles are to be sorted first by truckline, second by basic engine, and third by transmission type. For these groupings, the average test weights are to be placed in ascending order. List the categories in terms “a” through “k” below in the order specified from left to right across the top of the table. Include in the table for each model year the total sales-weighted harmonic average fuel economy and average test weight for imported and domestic light trucks for each truckline and for all of the respondent's light trucks.

a. Truckline, e.g., C1500, F-150, B-150. Model types that are essentially identical except for their nameplates (e.g., Chevrolet S-10/GMC S-15 and Dodge Caravan/Plymouth Voyager) may be combined into one line item.

b. Light truck vehicle type, e.g., compact pickup, cargo van, passenger van, utility, truck-based station wagon, and chassis cab. Other light truck designations, which are adequately defined, can be used if these are not suitable.

c. Basic engine: Include the engine characteristics used in Definition 3.

d. Transmission class (e.g., A3, L4, A40D, M5, CVT): Include the characteristics used in Definition 16.

e. Average ratio of engine speed to vehicle speed in top gear (N/V), rounded to one decimal place.

f. Average test weight.

g. Average PAU setting: Provide the value and show whether the value (or estimated value) is based on coastdown testing (T) or calculated from the vehicle frontal area (C). Round the PAU value to one decimal Place.

h. Composite fuel economy (Sales weighted, harmonically averaged over the specified vehicles, rounded to the nearest 0.1 mpg).

i. Projected sales for the vehicles described in each line item.

9. For each transmission identified in response to 8(d) above, provide a listing showing whether the transmission is manual or automatic, the gear ratios for the transmission, and the models that will use the transmission.

10. Indicate any MY 2005-2010 light truck model types that have higher average test weights than comparable MY 2001 model types. Describe the reasons for any weight increases (e.g., increased option content, less use of premium materials) and provide supporting justification.

11. For each new or redesigned vehicle identified in response to Question 3 and each new engine or fuel economy improvement identified in your response to Questions 3, 5, and 6, provide your best estimate of the following, in terms of constant 1996 dollars:

(a) Total capital costs required to implement the new/redesigned model or improvement according to the implementation schedules specified in your response. Subdivide the capital costs into tooling, facilities, launch, and engineering costs.

(b) The maximum production capacity, expressed in units of capacity per year, associated with the capital expenditure in (a) above. Specify the number of production shifts on which your response is based and define “maximum capacity” as used in your answer.

(c) The actual capacity that is planned to be used each year for each new/redesigned model or fuel economy improvement.

(d) The increase in variable costs per affected unit, based on the production volume specified in (b) above.

(e) The equivalent retail price increase per affected vehicle for each new/redesigned model or improvement. Provide an example describing methodology used to determine the equivalent retail price increase.

12. Please provide respondent's actual and projected U.S. light truck sales, 4x2 and 4x4, 0-8,500 lbs. GVWR and 8501-10,000 lbs., GVWR for each model year from 1996 through 2002, inclusive. Please subdivide the data into the following vehicle categories:

i. Standard Pickup Heavy (e.g., C2500/3500, F-250/350, Ram 2500/3500)

ii. Standard Pickup Light (e.g., C1500, F-150, Ram 1500)

iii. Compact Pickup (e.g., S-10, Ranger, Dakota)

iv. Standard Cargo Vans Heavy (e.g., G3500, E-250/350, B3500)

v. Standard Cargo Vans Light (e.g., G1500/2500, E-150, B1500/2500)

vi. Standard Passenger Vans Heavy (e.g., G3500, E-250/350, B3500)

vii. Standard Passenger Vans Light (e.g., G1500/2500, E-150, B1500/2500)

viii. Compact Cargo Vans (e.g., Astro, Aerostar, Mini Ram Van)

ix. Compact Passenger Vans (e.g., Astro, Villager, Voyager)

x. Standard Utilities (e.g., K1500 Tahoe, Expedition)

xi. Compact Utilities (e.g., Blazer, Explorer, Wrangler, RAV4)

xii. Other (e.g., Suburban)

See Table D for a sample format.

13. Please provide your estimates of projected total industry U.S. light (0-10,000 lbs, GVWR) truck sales for each model year from 2005 through 2010, inclusive. Please subdivide the data into 4x2 and 4x4 sales and into the vehicle categories listed in the sample format in Table E.

14. Please provide your company's assumptions for U.S. gasoline and diesel fuel prices during 2005 through 2010.

15. Please provide projected production capacity available for the North American market (at standard production rates) for each of your company's light truckline designations during MYs 2005-2010.

16. Please provide your estimate of production lead time for new models, your expected model life in years, and the number of years over which tooling costs are amortized.

Note: The parenthetical numbers in Tables A through E refer to the items in section III, specifications.

Table A—New Models
[Model: A-1 Standard Pickup; Drivetrain Configuration: 4x2, Front Engine/Rear Drive]
Body type (3a.) | Passenger volume ft3 | No. of seating positions | Cargo volume, ft3 | Wheelbase, in. (3e.) | PAU setting, hp (3f.)
Regular cab, short bed | 50 | 3 | 48 | 115 | 7.5
Regular cab, long bed | 50 | 3 | 64 | 133 | 7.8
Extended cab, long bed | 75 | 4 | 64 | 151 | 8.2
Crew cab, long bed | 100 | 6 | 64 | 170 | 9.0

Engine options (3b.) | Config./ number of cyl. | Fuel system | HP @ RPM | Torque @ RPM
160 CID, Turbocharged ¹ | I-4 | MPI | 140 @ 4200 | 90 @ 3400
235 CID | V-6 | TBI | 150 @ 3800 | 125 @2800
235 CID, 4-valve ² | V-6 | MPI | 180 @ 4500 | 130 @ 3200
285 CID | V-8 | MPI | 200 @ 4200 | 150 @ 3000
¹ Not available with crew cab.
² Available with automatic transmission only.

Ratios (3c.) | Transmission type: Manual overdrive | Transmission type: Manual creeper | Transmission type: Automatic with electronic controls and TCLU
1st Gear | 4.50 | 6.50 | 3.20
2nd Gear | 3.00 | 3.60 | 2.50
3rd Gear | 1.75 | 1.80 | 1.50
4th Gear | 1.00 | 1.00 | 1.00
5th Gear | 0.80 |  |
Reverse Gear | 4.70 | 6.10 | 3.00
Torque Converter |  |  | 2.10
Axle | 3.54/3.73 | 3.54/3.73 | 3.23/3.54

Body type (3a.) | Range of GVWR (3d.(i)) | Range of test weights (3d.(ii) | Range of composite fuel economy ratings (3g.)
Regular Cab, Short Bed | 6,050-7,000 | 4,250-4,500 | 16.0-17.5
Regular Cab, Long Bed | 6,100-7,200 | 4,250-4,500 | 16.0-17.2
Extended Cab, Long Bed | 6,100-7,400 | 4,500-5,000 | 15.5-17.0
Crew Cab, Long Bed | 6,300-7,800 | 4,500-5,000 | 14.5-16.5

Model year | Production (3i) | Share of fleet, % (3i) | Notes (3h, 3j)
2001 | 36,000 | 5 | Mid-year introduction, North American production
2002 | 78,000 | 10 |
2004 | 110,000 | 13 | Extended cab introduced
2005 | 120,000 | 14 | Facelift

New models: Model year (3j.) | New models: New model designation | New models: Model replaced or augmented | New models: Sales derived from old model | New models: Additional sales anticipated
2002 | A-Std Pickup | T-Std Pickup | 20,000 | 10,000
2003 | A-Std Pickup | T-Std Pickup | 50,000 | 30,000

Table B—New Engines
New/Redesigned engines: Year of introduction by model (4a./h.) | New/Redesigned engines: Type (4b.) | New/Redesigned engines: Displace-ment, L. (4c.) | New/Redesigned engines: Induction system (4d.) | New/Redesigned engines: Config-uration (4e.) | New/Redesigned engines: Valves per cylinder (4f.) | New/Redesigned engines: Horse-power @rpm (4g.) | New/Redesigned engines: Torque, lb-ft @rpm (4g.)
2002—Std Pickups | 2-cycle, Diesel | 4.42 | Turbo-charged, Direct injection | W-9 | 3 | 250@4000 | 190 @ 3500
2004—Std Vans

Table C—Technology Improvements
Technological improvement | Percent fuel economy improvement, % | Percent production share: 2002 | Percent production share: 2003 | Percent production share: 2004 | Percent production share: 2005 | Percent production share: 2006
(6a) Improved Auto Trans.
LT-1 | 7.0 | 0 | 0 | 15 | 25 | 55
LT-2 | 6.5 | 0 | 0 | 0 | 20 | 25
LT-3 | 5.0 | 0 | 10 | 30 | 60 | 60
(6b) Improved Manual Trans.
LV-1 | 1.0 | 2 | 5 | 5 | 5 | 5
U-1 | 0.7 | 0 | 0 | 0 | 8 | 10

Table D—Actual and Projected U.S. Sales (12.)
[Amalgamated Motors 2WD Light Truck Sales Projections]
Model Line | Model Year: 2001 | Model Year: 2002 | Model Year: 2003 | Model Year: 2004 | Model Year: 2005 | Model Year: etc.
0-8,500 lbs.GVWR
Std Pickup Heavy | 43,500 |  |  |  |  |
Std Pickup Light | 509,340 |  |  |  |  |
Compact Pickup | 120,000 |  |  |  |  |
Std Cargo Van Heavy | 60,000 |  |  |  |  |
Std Cargo Van Light | 20,000 |  |  |  |  |
Compact Cargo Van | 29,310 |  |  |  |  |
Std Passenger Van Heavy | 54,196 |  |  |  |  |
Std Passenger Van Light | 38,900 |  |  |  |  |
Compact Passenger Van | 30,000 |  |  |  |  |
Std Utility | 53,800 |  |  |  |
Compact Utility | 44,000 |  |  |  |
Other (Specify) |  |  |  |  |  |
8,501-10,000 Lbs.GVWR |  |  |  |  |  |
Std Pickup Heavy | 5,500 |  |  |  |
Std Vans Heavy | 4,000 |  |  |  |
Other (Specify) |  |  |  |  |  |
Total | 1,012,546 |  |  |  |

Table E—Total U.S. Truck Sales (13.)
Model type | 2001 | 2002 | 2003 | 2004 | 2005 | etc.
1. 2WD Light Trucks |  |  |  |  |  |
a. Pickup |  |  |  |  |  |
Compact |  |  |  |  |  |
Mid-size |  |  |  |  |  |
Standard |  |  |  |  |  |
b. Cargo Vans |  |  |  |  |
Compact |  |  |  |  |
Standard |  |  |  |  |  |
c. Passenger Vans |  |  |  |  |  |
Compact |  |  |  |  |  |
Standard |  |  |  |  |  |
d. Utilities |  |  |  |  |  |
Compact |  |  |  |  |  |
Standard |  |  |  |  |  |
Pass. Car Based |  |  |  |  |
e. Truck Based Station Wagons |  |  |  |  |  |
f. Other (Specify) |  |  |  |  |  |
2. 4WD Light Trucks [Same Breakout as 2WD] |  |  |  |  |  |
3. Total Light Trucks [2WD + 4WD] |  |  |  |  |  |

[FR Doc. 02-2874 Filed 2-1-02; 4:15 pm]

BILLING CODE 4910-59-P